OFFICE OF PERSONNEL MANAGEMENT

Submission for Review: Application To Participate as a Carrier Under 5 U.S.C. 8903(4); 3206-XXXX

AGENCY: Office of Personnel Management.

ACTION: 60-Day notice and request for comments.

SUMMARY: Healthcare and Insurance, Office of Personnel Management (OPM) offers the health plan carriers, general public and other federal agencies the opportunity to comment on the carrier application for participating in the Federal Employees Health Benefits (FEHB) Program. The requirements that must be met by carriers seeking to participate (and remain) in the FEHB Program are set forth in the stature and regulations.

DATES: Comments are encouraged and will be accepted until April 19, 2021.

ADDRESSES: You may submit comments, identified by docket number and/or Regulatory Information Number (RIN) and title, by the following method:

Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR, with applicable supporting documentation, may be obtained by contacting the Office of Personnel Management, 1900 E Street NW, Washington, DC 20415, Attention: Michael W Kaszynski, Senior Policy Analyst, Healthcare and Insurance at Michael.Kaszynski@opm.gov or (202) 606-2128.

SUPPLEMENTARY INFORMATION: As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM uses the application to determine if carriers meet the requirements set forth in the statute and regulations governing the FEHB. On the application, OPM collects information from applicants regarding their solvency, marketing and enrollment, health care delivery and covered services, utilization controls and quality assurance, and other general information and certifications. OPM uses this information to determine if the applicant is qualified to participate in the FEHB Program.

Analysis

Agency: Healthcare and Insurance, Office of Personnel Management.

Authority: 5 U.S.C. 8903(4).

Title: Application To Participate as a Carrier Under 5 U.S.C. 8903(4).

OMB Number: 3206-0145.

Reinstatement, with change, of a previously approved collection.

Frequency: Annually.

Affected Public: Health plan carriers applying for participation in the FEHB Program.

Number of Respondents: 5.

Estimated Time per Respondent: 100 hours.

Total Burden Hours: 500 hours.

Office of Personnel Management.
Alexys Stanley,
Regulatory Affairs Analyst.

[FR Doc. 2021-03166 Filed 2-16-21; 8:45 am]

BILLING CODE 6325-64-P